DEPARTMENT OF HEALTH AND HUMAN SERVICES

Centers for Disease Control and Prevention

Advisory Committee to the Director (ACD), Centers for Disease Control and Prevention (CDC)—Health Disparities Subcommittee (HDS)

In accordance with section 10(a)(2) of the Federal Advisory Committee Act (Pub. L. 92-463), the Centers for Disease Control and Prevention (CDC) announces the following meeting of the aforementioned committee:

Time and Date: 3:00 p.m.—4:10 p.m., EDT, January 23, 2013.

Place: Teleconference.

Status: Open to the public, limited only by the availability of telephone ports. The public is welcome to participate during the public comment period. A public comment period is tentatively scheduled from 4:00 p.m. to 4:05 p.m. To participate in the teleconference, please dial (877) 953-5019 and enter code 5280655.

Purpose: The subcommittee will provide advice to the CDC Director through the ACD on strategic and other broad issues facing CDC.

Matters To Be Discussed: Agenda items will include the following: review of draft recommendations for health equity at CDC.

The agenda is subject to change as priorities dictate.

Contact Person for More Information: Leandris Liburd, Ph.D., M.P.H., M.A., Designated Federal Officer, HDS, ACD, CDC, 1600 Clifton Road NE., M/S E-67, Atlanta, Georgia 30333, telephone (404) 498-2320, email: LEL1@cdc.gov.

The Director, Management Analysis and Services Office, has been delegated the authority to sign Federal Register notices pertaining to announcements of meetings and other committee management activities, for both the Centers for Disease Control and Prevention and the Agency for Toxic Substances and Disease Registry.

Dated: December 18, 2012.
Elaine L. Baker,
Director, Management Analysis and Services Office, Centers for Disease Control and Prevention.

[FR Doc. 2012-31008 Filed 12-21-12; 4:15 pm]

BILLING CODE 4163-18-P